DEPARTMENT OF ENERGY

Federal Energy Regulatory Commission

Combined Notice of Filings #1

Take notice that the Commission received the following electric corporate filings:

Docket Numbers: EC19-120-000.

Applicants: El Paso Electric Company, Sun Jupiter Holdings LLC.

Description: Supplement to August 13, 2019 Joint Application for Authorization Under Section 203 of the Federal Power Act of El Paso Electric Company, et al.

Filed Date: 9/23/19.

Accession Number: 20190923-5084.

Comments Due: 5 p.m. ET 10/15/19.

Take notice that the Commission received the following exempt wholesale generator filings:

Docket Numbers: EG19-187-000.

Applicants: Bronco Plains Wind, LLC.

Description: Notice of Self-Certification of Exempt Wholesale Generator Status of Bronco Plains Wind, LLC.

Filed Date: 9/20/19.

Accession Number: 20190920-5183.

Comments Due: 5 p.m. ET 10/11/19.

Docket Numbers: EG19-188-000.

Applicants: Poseidon Wind, LLC.

Description: Notice of Self-Certification of Exempt Wholesale Generator Status of Poseidon Wind, LLC.

Filed Date: 9/23/19.

Accession Number: 20190923-5183.

Comments Due: 5 p.m. ET 10/15/19.

Take notice that the Commission received the following electric rate filings:

Docket Numbers: ER12-1470-009; ER18-836-002; ER10-1290-009; ER16-1833-005; ER10-3026-008.

Applicants: San Diego Gas & Electric Company, Energia Sierra Juarez U.S., LLC, Energia Sierra Juarez 2 U.S., LLC, Sempra Gas & Power Marketing, LLC, Termoelectria U.S., LLC.

Description: Second Supplement to December 28, 2018 Updated Market Power Analysis for the Southwest Region of Energia Sierra Juarez U.S., LLC, et al.

Filed Date: 9/23/19.

Accession Number: 20190923-5161.

Comments Due: 5 p.m. ET 10/15/19.

Docket Numbers: ER18-1442-002.

Applicants: Citizens Sycamore-Penasquitos Transmission LLC.

Description: Compliance filing: Compliance Filing in Docket No. ER18-1442-000 to be effective 12/31/9998.

Filed Date: 9/23/19.

Accession Number: 20190923-5151.

Comments Due: 5 p.m. ET 10/15/19.

Docket Numbers: ER18-1822-001.

Applicants: California Independent System Operator Corporation.

Description: Compliance filing: 2019-09-24 Compliance Filing to add Citizens Sycamore-Penasquitos to TCA to be effective 9/23/2019.

Filed Date: 9/24/19.

Accession Number: 20190924-5053.

Comments Due: 5 p.m. ET 10/15/19.

Docket Numbers: ER19-2439-000.

Applicants: Tampa Electric Company.

Description: Supplement to July 23, 2019 Petition for Waiver of Affiliate Transaction Pricing Rule of Tampa Electric Company.

Filed Date: 9/18/19.

Accession Number: 20190918-5002.

Comments Due: 5 p.m. ET 9/30/19.

Docket Numbers: ER19-2852-000.

Applicants: Connecticut Yankee Atomic Power Company.

Description: § 205(d) Rate Filing: Connecticut Yankee Rate Schedule Revision Filing to be effective 12/1/2019.

Filed Date: 9/23/19.

Accession Number: 20190923-5139.

Comments Due: 5 p.m. ET 10/15/19.

Docket Numbers: ER19-2853-000.

Applicants: PJM Interconnection, L.L.C.

Description: § 205(d) Rate Filing: Orginal WMPA SA No. 5489; Queue No. AB2-168 to be effective 8/26/2019.

Filed Date: 9/23/19.

Accession Number: 20190923-5142.

Comments Due: 5 p.m. ET 10/15/19.

Docket Numbers: ER19-2854-000.

Applicants: Maine Yankee Atomic Power Company.

Description: § 205(d) Rate Filing: Maine Yankee Rate Schedule Revision Filing to be effective 12/1/2019.

Filed Date: 9/23/19.

Accession Number: 20190923-5143.

Comments Due: 5 p.m. ET 10/15/19.

Docket Numbers: ER19-2855-000.

Applicants: Yankee Atomic Electric Company.

Description: § 205(d) Rate Filing: Yankee Atomic Rate Schedule Revision Filing to be effective 12/1/2019.

Filed Date: 9/23/19.

Accession Number: 20190923-5144.

Comments Due: 5 p.m. ET 10/15/19.

Docket Numbers: ER19-2856-000.

Applicants: Birchwood Power Partners, L.P.

Description: § 205(d) Rate Filing: Reactive Power Rate Schedule to be effective 9/24/2019.

Filed Date: 9/23/19.

Accession Number: 20190923-5149.

Comments Due: 5 p.m. ET 10/15/19.

Docket Numbers: ER19-2857-000.

Applicants: Southwestern Electric Power Company.

Description: § 205(d) Rate Filing: SA777 NTEC Brandy Branch Tap to Darco DPA Amend and Restated to be effective 9/15/2019.

Filed Date: 9/23/19.

Accession Number: 20190923-5152.

Comments Due: 5 p.m. ET 10/15/19.

Docket Numbers: ER19-2858-000.

Applicants: East Coast Power Linden Holding, L.L.C.

Description: Baseline eTariff Filing: Baseline new Reactive Rate Schedule to be effective 10/1/2019.

Filed Date: 9/24/19.

Accession Number: 20190924-5054.

Comments Due: 5 p.m. ET 10/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 24, 2019.
Nathaniel J. Davis, Sr.,
Deputy Secretary.

[FR Doc. 2019-21135 Filed 9-27-19; 8:45 am]

BILLING CODE 6717-01-P